FEDERAL COMMUNICATIONS COMMISSION

Radio Broadcasting Services; AM or FM Proposals To Change the Community of License

AGENCY: Federal Communications Commission.

ACTION: Notice.

SUMMARY: The following applicants filed AM or FM proposals to change the community of license: GRACE COMMUNITY CHURCH OF AMARILLO, Station WBFK, Facility ID 176881, BPED-20130509ABB, From SMITHS GROVE, KY, To HISEVILLE, KY; HOG RADIO, INC., Station KCYT, Facility ID 51098, BPH-20130603AES, From OZARK, AR, To FAYETTEVILLE, AR; JOY BROADCASTING, INC., Station WXGN, Facility ID 32338, BPED-20130606AAX, From EGG HARBOR TOWNSHIP NJ, To SOMERS POINT, NJ; LANGER BROADCASTING GROUP, LLC, Station WMSX, Facility ID 41348, BP-20130610ACC, From BROCKTON, MA, To DEDHAM, MA; RIVERFRONT BROADCASTING, LLC, Station NEW, Facility ID 190370, BMPH-20130606AAP, From MURDO, SD, To BLUNT, SD; THE MONTANA RADIO COMPANY, LLC, Station KTRO, Facility ID 183371, BPH-20130625ADB, From ROUNDUP, MT, To STANFORD, MT; WOMEN'S CIVIC IMPROVEMENT LEAGUE, INC., Station KPOV-FM, Facility ID 174895, BPED-20130612ACB, From BEND, OR, To DESCHUTES RIVERWOODS, OR.

DATES: The agency must receive comments on or before September 9, 2013.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2013-16360 Filed 7-8-13; 8:45 am]

BILLING CODE 6712-01-P